DEPARTMENT OF HEALTH AND HUMAN SERVICES

Administration for Children and Families

Notice of Secretary's Advisory Committee Meeting

AGENCY: Office of Planning, Research and Evaluation, ACF, HHS.

ACTION: Notice of meeting; Advisory Committee on Head Start Research and Evaluation.

SUMMARY: The 1998 Head Start Reauthorization (42 U.S.C. 9844(g); section 649(g)(1) of the Head Start Act, as amended) called on the Secretary of Health and Human Services to form an independent panel of experts (i.e., an Advisory Committee) to offer advice concerning research designs that would provide a national analysis of the impact of Head Start Programs. The September 28-29, 2005 meeting provides an opportunity for the Advisory Committee to provide advice on the analysis plans for the study following the June 2005 release on the first impact findings.

DATES: September 28 (9 a.m.-4 p.m.) and 29 (9 a.m.-12:30 p.m.), 2005.

Place: Bethesda Park Clarion Hotel, 8400 Wisconsin Avenue, Bethesda, MD 20814; Phone: (301) 654-1000; Fax: (301) 654-0751.

SUPPLEMENTARY INFORMATION: This meeting is open to the public and is barrier free. Meeting records will also be open to the public and will be kept at the Aerospace Building, 370 L'Enfant Promenade, SW., Washington, DC 20447. The Administration for Children and Families also intends to make material related to this meeting available on the Office of Planning, Research and Evaluation Web site (http://www.acf.hhs.gov/programs/opre/index.html). An interpreter for the deaf and hearing impaired will be available upon advance request by calling Xtria at 703-821-6182.

FOR FURTHER INFORMATION CONTACT: Maria Woolverton at 202-205-4039 for substantive information. Contact ACF Office of Public Affairs at 202-401-9215 for press inquiries. Contact Xtria at 703-821-6182 for logistical information.

Dated: September 7, 2005.
Naomi Goldstein,
Director, Office of Planning, Research and Evaluation, ACF.

[FR Doc. 05-18257 Filed 9-13-05; 8:45 am]

BILLING CODE 4184-01-M